DEPARTMENT OF HOUSING AND URBAN DEVELOPMENT

[Docket No. FR-7104-N-08; OMB Control No.: 2577-0191]

60-Day Notice of Proposed Information Collection: Application for the Community Development Block Grant (ICDBG) Program for Indian

AGENCY: Office of the Assistant Secretary for Public and Indian Housing (PIH), HUD.

ACTION: Notice.

SUMMARY: HUD is seeking approval from the Office of Management and Budget (OMB) for the information collection described below. In accordance with the Paperwork Reduction Act (PRA), HUD is requesting comments from all interested parties on the proposed collection of information. The purpose of this notice is to allow for 60 days of public comment.

DATES: Comments Due Date: August 11, 2025.

ADDRESSES: Interested persons are invited to submit comments regarding this proposal. Written comments and recommendations for the proposed information collection can be sent within 60 days of publication of this notice to www.regulations.gov by searching the Docket Number of this notice and following the prompts. Interested persons are also invited to submit comments and recommendations via post. Comments and recommendations should be postmarked within 60 days of the publication of this notice, refer to the proposal by name and/or OMB Approval Number (located at the top of this notice), and be sent to: Leea Thornton, Program Analyst, Department of Housing and Urban Development, 451 7th Street SW, Washington, DC 20410-5000.

FOR FURTHER INFORMATION CONTACT: Leea Thornton, Department of Housing and Urban Development, 451 7th Street SW, Washington, DC 20410; email Leea Thornton at PIH-PRAPublicComments@hud.gov; or telephone (202) 402-6455. This is not a toll-free number. HUD welcomes and is prepared to receive calls from individuals who are deaf or hard of hearing, as well as individuals with speech or communication disabilities. To learn more about how to make an accessible telephone call, please visit: https://www.fcc.gov/consumers/guides/telecommunications-relay-service-trs. Copies of documents submitted to OMB may be obtained from Ms. Thornton.

SUPPLEMENTARY INFORMATION: This notice informs the public that HUD is seeking approval from OMB for the information collection described in Section A.

A. Overview of Information Collection

Title of Information Collection: Application for the Community Development Block Grant (ICDBG) Program for Indian.

OMB Approval Number: 2577-0191.

Type of Request: Revision of a currently approved collection.

Form Number: SF-425 and Annual Status and Evaluation Report (ASER).

Description of the need for the information and proposed use: Title I of the Housing and Community Development Act of 1974 authorizes Indian Community Development Block Grants (ICDBG) and requires that grants be awarded annually on a competitive basis. The purpose of the ICDBG program is to develop viable Indian and Alaska Native communities by creating decent housing, suitable living environments, and economic opportunities primarily for low- and moderate-income persons. Consistent with this objective, not less than 70 percent of the expenditures are to benefit low- and moderate-income persons. Eligible applicants include Federally recognized tribes, which includes Alaska Native communities, and tribally authorized tribal organizations. Eligible categories of funding include housing rehabilitation, land acquisition to support new housing, homeownership assistance, public facilities and improvements, economic development, and microenterprise programs. For a complete description of eligible activities, please refer to 24 CFR part 1003, subpart C.

The ICDBG program regulations are at 24 CFR part 1003. The ICDBG program requires eligible applicants to submit information to enable HUD to select the best projects for funding during annual competitions. Additionally, the information submitted is essential for HUD in monitoring grants to ensure that grantees are complying with applicable statutes and regulations and implementing activities as approved.

ICDBG recipients are required to submit annually a Federal Financial Report (SF-425) that describes the use of grant funds drawn from the recipient's line of credit. The reports are used to monitor cash transfers to the recipients and obtain expenditure data from the recipients as described in (2 CFR 200.327).

The regulations at 24 CFR part 200 require that grantees and sub-grantees take all necessary affirmative steps to assure that minority firms, women's business enterprises, and labor surplus area firms are used when possible. Consistent with these regulations, 24 CFR 1003.506(b) requires that ICDBG grantees submit to HUD a report on contract and subcontract activity on October 10 of each year.

The regulations at 24 CFR 1003.506 instruct recipients to submit to HUD an Annual Status and Evaluation Report (ASER) that describes the progress made in completing approved activities with a listing of work to be completed; a breakdown of funds expended; and when the project is completed, a program evaluation expressing the effectiveness of the project in meeting community development needs. The ASER is due within 90 days of the date it is determined that the criteria for closeout have been met. The information collected will allow HUD to accurately audit the program. Form HUD-2516 will no longer be used in this collection, and HUD would like to request the form be discontinued.

Respondents: Federally recognized Native American Tribes, Alaska Native communities and corporations, and tribal organizations.

Information collection | Number of respondents | Frequency of response | Responses per annum | Burden hour per response | Annual burden hours | Hourly cost per response | Annual cost
Federal Financial Report (SF-425) OMB (4040-0014) | 240 | 1 | 240 | 0 | 0 | 0 | 0
Annual Status and Evaluation Report (ASER) | 240 | 1 | 240 | 4 | 960 | $43.55 | $41,808
Total | 240 |  | 300 |  | 960 |  | 41,808

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comments in response to these questions.

C. Authority

Section 2 of the Paperwork Reduction Act of 1995, 44 U.S.C. 3507.

Laura Kunkel,
Acting Director, Office of Policy, Programs, and Legislative Initiatives.

[FR Doc. 2025-10545 Filed 6-10-25; 8:45 am]

BILLING CODE 4210-67-P